DEPARTMENT OF ENERGY

Federal Energy Regulatory Commission

[Project No. 1888-038]

York Haven Power Company, LLC; Notice of Application Accepted for Filing and Soliciting Comments, Motions To Intervene, and Protests

Take notice that the following hydroelectric application has been filed with the Commission and is available for public inspection:

a. Application Type: Application for Temporary Variance from Flow Requirements.

b. Project No: 1888-038.

c. Date Filed: September 24, 2021.

d. Applicant: York Haven Power Company, LLC (licensee).

e. Name of Project: York Haven Hydroelectric Project.

f. Location: The project is located on the Susquehanna River in Lancaster and York counties, Pennsylvania.

g. Filed Pursuant to: Federal Power Act, 16 U.S.C. 791a-825r.

h. Applicant Contact: Jody Smet, Vice President Regulatory Affairs; York Haven Power Company, LLC; P.O. Box 67; 1 Hydro Park Drive; York Haven, PA 17370; Phone: (804) 739-0654.

i. FERC Contact: Alicia Burtner, (202) 502-8038, Alicia.Burtner@ferc.gov.

j. Deadline for filing comments, motions to intervene, and protests: October 20, 2021.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-1888-038. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee requests a temporary variance from the juvenile American shad downstream passage protection flows required by Article 401 of the project license, the Pennsylvania Department of Environmental Protection's Water Quality Certificate (WQC) condition III.B.3.a.i, and the U.S. Fish and Wildlife Service's fishway prescription, section 9.9.6.a.ii. The licensee is required to spill 370 cubic feet per second (cfs) from the forebay sluice gate from 1700 to 2300 hours throughout the downstream juvenile American shad passage period, from October 1 through November 30. These flows are required until a nature-like fishway is completed at the project. The licensee began construction of downstream passage facilities at the forebay sluice gate in July 2021 and had been scheduled to complete construction by September 30, 2021. As a result of Tropical Storm Ida, the licensee could not safely conduct construction activities and had to remove equipment from the river until tailwater elevations abated. Due to these construction delays, the licensee now anticipates completing work by November 15, 2021. The licensee indicates that it would make every effort to complete construction sooner, and that it would release the 370 cfs protection flows from the sluice gate immediately upon being able to safely do so. The licensee would continue to provide downstream flows via its generating units as required by WQC condition III.B.3.1.i and fishway prescription section 9.9.6.a.i. The Pennsylvania Department of Environmental Protection and U.S. Fish and Wildlife Service support the variance request.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: September 30, 2021.
Kimberly D. Bose,
Secretary.

[FR Doc. 2021-21815 Filed 10-5-21; 8:45 am]

BILLING CODE 6717-01-P